SURFACE TRANSPORTATION BOARD

60-Day Notice of Intent To Seek Extension of Approval: Applications for Land-Use-Exemption Permits

AGENCY: Surface Transportation Board.

ACTION: Notice and request for comments.

SUMMARY: As part of its continuing effort to reduce paperwork burdens, and as required by the Paperwork Reduction Act of 1995, the Surface Transportation Board (STB or Board) gives notice that it is requesting from the Office of Management and Budget (OMB) an extension of approval for the collection of Applications for Land-Use-Exemption Permits (for Solid Waste Rail Transfer Facilities).

DATES: Comments on this information collection should be submitted by October 13, 2017.

ADDRESSES: Direct all comments to Chris Oehrle, PRA Officer, Surface Transportation Board, 395 E Street SW., Washington, DC 20423-0001, or to pra@stb.gov. When submitting comments, please refer to “Paperwork Reduction Act Comments: Applications for Land-Use-Exemption Permits.”

FOR FURTHER INFORMATION CONTACT: For further information regarding Land-Use-Exemption Permits, contact pra@stb.gov, or submit your question at https://www.stb.gov/Ect1/ecorrespondence.nsf/incoming?OpenForm. [Assistance for the hearing impaired is available through the Federal Information Relay Service (FIRS) at 1-800-877-8339.]

SUPPLEMENTARY INFORMATION: Comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Collection

Title: Applications for Land-Use-Exemption Permits.

OMB Control Number: 2140-0018.

STB Form Number: None.

Type of Review: Extension without change.

Respondents: Any applicant seeking a land-use-exemption permit.

Number of Respondents: One.

Estimated Time Per Response: 160 hours.

Frequency: On occasion.

Total Burden Hours (annually including all respondents): 160 hours.

Total “Non-hour Burden” Cost: An estimated $200,000 to hire an environmental consultant to work with Board staff on the required environmental report.

Needs and Uses: Pursuant to 49 U.S.C. 10501(c)(2), as amended by the Clean Railroads Act of 2008 (CRA), 49 U.S.C. 10908-10910, the Board adopted final rules in Solid Waste Rail Transfer Facilities, EP 684 (STB served Nov. 20, 2012). Under these rules, a person seeking a Land-Use-Exemption Permit must file an application including substantial facts and argument as to why a permit is necessary and, as required by the National Environmental Policy Act, an environmental report and/or an environmental impact statement. To date, the Board has not received any applications under these rules.

Under 49 CFR 1155.20, an applicant is required to file a notice of intent to apply for a land-use-exemption permit before filing its application. A suggested form for this notice may be found in Appendix A to 49 CFR part 1155. Further, under 49 CFR 1155.21(e), an application must include a draft Federal Register notice. A suggested form for the draft Federal Register notice may be found at Appendix B to part 1155.

This collection is needed to develop a record in land-use-exemption-permit proceedings, a process mandated by Congress in the CRA. The Board uses the information in this collection to accurately assess the merits of a permit application.

Under the PRA, a federal agency that conducts or sponsors a collection of information must display a currently valid OMB control number. A collection of information, which is defined in 44 U.S.C. 3502(3) and 5 CFR 1320.3(c), includes agency requirements that persons submit reports, keep records, or provide information to the agency, third parties, or the public. Under 44 U.S.C. 3506(c)(2)(A), federal agencies are required to provide, prior to an agency's submitting a collection to OMB for approval, a 60-day notice and comment period through publication in the Federal Register concerning each proposed collection of information, including each proposed extension of an existing collection of information.

Dated: August 11, 2017.
Jeffrey Herzig,
Clearance Clerk.

[FR Doc. 2017-17306 Filed 8-15-17; 8:45 am]

BILLING CODE 4915-01-P